DEPARTMENT OF ENERGY

Federal Energy Regulatory Commission

[Project No. 11301-001 Georgia]

Fall Line Hydro Company; Notice of Availability of Environmental Assessment

June 21, 2001.

In accordance with the National Environmental Policy Act of 1969 and the Federal Energy Regulatory Commission's (Commission's) regulations, 18 CFR Part 380 (Order No. 486, 52 FR 47897), the Office of Energy Projects has reviewed the application for an original major license for the Carters Regulation Dam Hydroelectric Project located on the Coosawatte Rivery in Murray County, Georgia, and has prepared an Environmental Assessment (EA) for the proposed project. In the EA, the Commission's staff has analyzed the potential environmental impacts of the proposed project and has concluded that approval of the proposed project, with appropriate mitigative measure, would not constitute a major federal action significantly affecting the quality of the human environment.

Copies of the EA are available for review in the Public Reference Branch of the Commission's offices at 888 First Street, N.E., Room 2A, Washington, D.C. 20426, and may also be viewed on the web at http://www.ferc.fed.us/online/rims.htm (please call (202) 208-2222 for assistance).

David P. Boergers,
Secretary.

[FR Doc. 01-16060 Filed 6-26-01; 8:45 am]

BILLING CODE 6717-01-M